DEPARTMENT OF THE INTERIOR

Fish and Wildlife Service

Receipt of Applications for Endangered Species Permits

AGENCY: Fish and Wildlife Service, Interior.

ACTION: Notice.

SUMMARY: The public is invited to comment on the following nine applications to conduct certain activities with endangered species.

DATES: We must receive written data or comments on these applications at the address given below, by June 4, 2007.

ADDRESSES: Documents and other information submitted with these applications are available for review, subject to the requirements of the Privacy Act and Freedom of Information Act, by any party who submits a written request for a copy of such documents to the following office within 30 days of the date of publication of this notice: Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following nine applications for permits to conduct certain activities with endangered and threatened species. This notice is provided under section 10(c) of the Endangered Species Act of 1973, as amended (16 U.S.C. 1531 et seq.). If you wish to comment, you may submit comments by any one of the following methods. You may mail comments to the Fish and Wildlife Service's Regional Office (see ADDRESSES section) or via electronic mail (e-mail) to victoria_davis@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Phillip W. Bettoli, USGS-Tennessee Coop Fish Unit, Tennessee Tech University, Cookeville, TN, TE145272-0.

The applicant requests authorization to take (capture, radio tag, fin clip, release) the pallid sturgeon (Scaphirhynchus albus) while monitoring movements and while assessing by-catch in a commercial shovelnose sturgeon fishery. The activities would occur in the main channel of the Mississippi River between Memphis, Tennessee and New Madrid, Missouri.

Applicant: Dr. Julie L. Lockwood, North Brunswick, New Jersey, TE075916-2.

The applicant requests authorization to amend an existing permit to harass (capture, band, monitor nest, release) the Cape Sable seaside sparrow (Ammodramus maritimus mirabilis) while installing temperature loggers, predator-proof barriers, and nest cameras. The proposed activities would occur while performing population monitoring and management activities within the Everglades National Park, Florida.

Applicant: U.S. Forest Service, Savannah River, New Ellenton, South Carolina, TE040792-2.

The applicant requests authorization to renew an existing permit to take (band, monitor nests, release) the red-cockaded woodpecker (Picoides borealis) while conducting monitoring and management activities. The proposed activities would occur on U.S. Forest Service land at the Savannah River site, South Carolina.

Applicant: The Nature Conservancy-VA, Brian P. van Eerden, Charlottesville, Virginia, TE092887-1.

The applicant requests authorization to renew an existing permit to take (band, monitor nests, release) the red-cockaded woodpecker (Picoides borealis) while conducting monitoring and management activities. The proposed activities would occur at the Piney Grove Preserve, Sussex County, Virginia.

Applicant: Department of the Army, Signal Center, Fort Gordon, Georgia, TE146376-1.

The applicant requests authorization to renew an existing permit to take (capture, band, monitor nest, release) the red-cockaded woodpecker (Picoides borealis) while conducting monitoring and management activities. The proposed activities would occur on military land at Fort Gordon, Georgia.

Applicant: Tim J. Nehus, Cookeville, TN, TE108584-4.

The applicant requests authorization to amend an existing permit to take (capture and release) the blue shiner (Cyprinella caerulea), slender chub (Erimystax cahni), slackwater darter (Etheostoma boschungi), duskytail darter (Etheostoma percurum), boulder darter (Etheostoma wapiti), spotfin chub (Cyprinella (=Hybopsis monacha)), palezone shiner (Notropis albizonatus), smoky madtom (Noturus baileyi), yellowfin madtom (Noturus flavipinnis), pygmy madtom (Noturus stanauli), amber darter (Percina antesella), Conasauga logperch (Percina jenkinsi), snail darter (Percina tanasi), and blackside dace (Phoxinus cumberlandensis) while conducting presence/absence surveys and relocation activities. The proposed activities would occur throughout the state of Tennessee.

Applicant: Louisiana Department of Wildlife and Fisheries, Eric John Baka, Baton Rouge, LA, TE079972-1.

The applicant requests authorization to renew an existing permit to take (capture, band, release) the red-cockaded woodpecker (Picoides borealis) while conducting monitoring and management activities. The proposed activities would occur throughout the species range in Louisiana.

Applicant: HMB Professional Engineers, INC, Frankfort, KY, TE129703-1.

The applicant requests authorization to amend an existing permit to take (capture, release) the fat pocketbook (Potamilus capax), Running Buffalo clover (Trifolium stoloniferum), short's goldenrod (Solidago shortii), Indiana bat (Myotis sodalis), and gray bat (Myotis grisescens) while conducting presence/absence surveys. The surveys would be conducted throughout the species range in Indiana and Kentucky.

Applicant: Nicholas M. Haddad, North Carolina State University, Raleigh, NC, TE054973-1.

The applicant requests authorization to amend and renew an existing permit to take (capture, release, collect eggs, rear in captivity, salvage, preserve) Saint Francis' satyr (Neonympha mitchelli francisici) while identifying hostplants and perfecting captive rearing for the potential establishment of experimental populations in the future. The activities would take place at the Fort Bragg Military Base, Cumberland and Hoke Counties, North Carolina.

Dated: March 1, 2007.
Jackie Parrish,
Acting Regional Director.

[FR Doc. E7-8461 Filed 5-2-07; 8:45 am]

BILLING CODE 4310-55-P